FEDERAL LABOR RELATIONS AUTHORITY

5 CFR Part 2424

Negotiability Proceedings; Correction

AGENCY: Federal Labor Relations Authority.

ACTION: Correcting amendment.

SUMMARY: The Federal Labor Relations Authority is correcting its regulations regarding negotiability proceedings.

DATES: Effective November 14, 2023.

FOR FURTHER INFORMATION CONTACT: Thomas Tso at ttso@flra.gov or at (771) 444-5779.

SUPPLEMENTARY INFORMATION: In FR Doc. 2023-19269, appearing in the Federal Register of Tuesday, September 12, 2023, on pages 62456-57, instruction 7 revised § 2424.22, but the regulatory text inadvertently failed to retain § 2424.22(d), which was not a part of the revision, in the revised text. Section 2424.22(d) simply cross-references a general definition of “Service” in § 2424.2(g), which, in turn, cross-references the general obligations for service in part 2429. Accordingly, this correcting amendment is not a substantive change. The correcting amendment retains the regulatory text that was not part of the intended revisions in FR Doc. 2023-19269 and inadvertently omitted. This document corrects the final regulations.

List of Subjects in 5 CFR Part 2424

Administrative practice and procedure, Government employees, Labor management relations.

For the reasons set out in the preamble, the Federal Labor Relations Authority corrects 5 CFR part 2424 by making the following correcting amendment:

PART 2424—NEGOTIABILITY PROCEEDINGS

1. The authority citation for part 2424 continues to read as follows:

Authority: 5 U.S.C. 7134.

2. Amend § 2424.22 by adding paragraph (d) to read as follows:

§ 2424.22 Exclusive representative's petition for review; purpose; divisions; content; service.

* * * * *

(d) Service. The petition for review, including all attachments, must be served in accord with § 2424.2(g).

Dated: November 6, 2023.
Thomas Tso,
Solicitor and Federal Register Liaison.

[FR Doc. 2023-24820 Filed 11-13-23; 8:45 am]

BILLING CODE 6727-01-P